DEPARTMENT OF ENERGY

Federal Energy Regulatory Commission

[Docket Nos. RT02-2-000; RT01-74-000; RT01-100-000; RT01-1-000; and RM98-1-002 (Not Consolidated)]

State-Federal Regional RTO Panels; GridSouth Transco, L.L.C.; Regional Transmission Organizations; Regional Transmission Organization Informational Filings; Regulations Governing Off-the-Record Communications; Notice of State-Federal Southeast Regional Panel Duscussion

April 5, 2002.

Take notice that on April 22, 2002, from 1 p.m. to 3 p.m., a State-Federal Southeast Regional Panel discussion will be held, pursuant to the Commission's Order issued November 9, 2001, in Docket No. RT02-2-000, et al. The meeting will take place between, and is limited to, the Federal Energy Regulatory Commission, the North Carolina Utilities Commission, the South Carolina Public Service Commission, and their staffs, and will address Regional Transmission Organization (RTO) issues as they affect public utilities in the Carolinas. The meeting will be held at 888 1st St. NE., Washington, DC 20246. A transcript of the panel discussion will be placed in the above-listed dockets.

Linwood A. Watson, Jr.,
Deputy Secretary.

[FR Doc. 02-9033 Filed 4-12-02; 8:45 am]

BILLING CODE 6717-01-P